COMMODITY FUTURES TRADING COMMISSION

Public Availability of Commodity Futures Trading Commission FY 2010 Service Contract Inventory

AGENCY: Commodity Futures Trading Commission.

ACTION: Notice of Public Availability of FY 2010 Service Contract Inventories.

SUMMARY: In accordance with Section 743 of Division C of the Consolidated Appropriations Act of 2010 (Pub. L. 111-117), Commodity Futures Trading Commission is publishing this notice to advise the public of the availability of the FY 2010 Service Contract inventory. This inventory provides information on service contract actions over $25,000 that were made in FY 2010. The information is organized by function to show how contracted resources are distributed throughout the agency. The inventory has been developed in accordance with guidance issued on November 5, 2010 by the Office of Management and Budget's Office of Federal Procurement Policy (OFPP). OFPP's guidance is available at: http://www.whitehouse.gov/sites/default/files/omb/procurement/memo/service-contract-inventories-guidance-11052010.pdf. Commodity Futures Trading Commission has posted its inventory and a summary of the inventory on the CFTC homepage at the following link: http://www.cftc.gov/ucm/groups/public/@aboutcftc/documents/file/cftcserviceinventory_2010.pdf.

FOR FURTHER INFORMATION CONTACT: Questions regarding the service contract inventory should be directed to Sonda R. Owens in the Office of Financial Management, Procurement at 202-418-5182 or sowens@cftc.gov.

David A. Stawick,
Secretary of the Commission.

[FR Doc. 2011-4850 Filed 3-3-11; 8:45 am]

BILLING CODE 6351-01-P